DEPARTMENT OF HOUSING AND URBAN DEVELOPMENT

[Docket No. FR-5415-FA-07]

Announcement of Funding Awards, HOPE VI Revitalization Grant Program, Fiscal Year 2010

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the Fiscal Year 2010 (FY2010) Notice of Funding Availability (NOFA) for the HOPE VI Revitalization grant program. This announcement contains the consolidated names and addresses of this year's award recipients under the HOPE VI Revitalization grant program.

FOR FURTHER INFORMATION CONTACT: For questions concerning the HOPE VI Revitalization program grant awards, contact Ms. Susan Wilson, Director, Office of Urban Revitalization, Office of Public and Indian Housing, Department of Housing and Urban Development, 451 Seventh Street SW., Room 4130, Washington, DC 20410, telephone 202- 401-8812. Hearing or speech-impaired individuals may access this number via TTY by calling the toll-free Federal Relay Service at 800-877-8339.

SUPPLEMENTARY INFORMATION: The HOPE VI Revitalization Program provides grants to public housing authorities (PHAs) to: (1) Improve the living environment for public housing residents of severely distressed public housing projects through the demolition, rehabilitation, reconfiguration, or replacement of obsolete public housing projects; (2) revitalize sites on which such public housing projects are located and contribute to the improvement of the surrounding neighborhood; (3) provide housing that will avoid or decrease the concentration of very low-income families; and (4) build sustainable communities.

The FY2010 awards totaled $152,729,750, which included funds from both the FY2010 and FY2011 HOPE VI/Choice Neighborhood appropriation. The FY 2010 HOPE VI/Choice Neighborhood appropriation only allowed for the funding of six applications submitted in response to the FY2010 NOFA. In addition to the FY2010 HOPE VI/Choice Neighborhoods appropriation, HUD used the FY2011 HOPE VI/Choice Neighborhoods appropriation to fund two additional FY2010 HOPE VI applicants. HUD used the FY2011 HOPE VI/Choice Neighborhood assistance due to the need to award the FY2011 appropriation to communities as soon as possible and the fact that there were many more high-quality HOPE VI applicants in FY2010 than HUD was able to fund, for which use of the FY2011 appropriation provided a remedy. The results of HUD's HOPE VI selections were announced on May 23, 2011. At that time, and in addition to the applicant and Congressional notification processes, eight grantees and the amount of each award was posted to the HUD Web site at: http://portal.hud.gov/hudportal/HUD?src=/press/press_releases_media_advisories/2011/HUDNo.11-097. Applications were scored and selected for funding based on the selection criteria in the FY2010 HOPE VI Revitalization NOFA.

As a result of HUD's decision, HUD was able to fund eight public housing authorities (PHAs) from among 36 PHAs that applied for FY2010 HOPE VI Revitalization funding. Using the FY2011 HOPE VI/Choice Neighborhoods appropriation in this way allowed HUD to fund two additional FY2010 HOPE VI Revitalization applicants and two additional FY2010 Choice Neighborhoods applicants that would not have otherwise been funded (FY2010 Choice Neighborhoods awards are addressed in a separate Federal Register notice). In accordance with Section 102(a)(4)(C) of the Department of Housing and Urban Development Reform Act of 1989 (103 Stat. 1987, 42 U.S.C. 3545), the Department is publishing the names, addresses, and amounts of the eight awards made under the competition in Appendix A to this document.

Dated: March 9, 2012.
Sandra B. Henriquez,
Assistant Secretary for Public and Indian Housing.

Appendix A
HOPE VI revitalization grantee name and contact information | Amount funded | Project funded
1 Boston Housing Authority, 52 Chauncy Street, Boston, MA 02111-2375 | $22,000,000.00 | Old Colony.
2 Louisville Metro Housing Authority, 420 South Eighth Street, Louisville, KY 40203 | 22,000,000.00 | Sheppard Square.
3 Taunton Housing Authority, 30 Olney Street, Suite B, Taunton, MA 02780-4141 | 22,000,000.00 | Fairfax Gardens.
4 Housing Authority of the City & County of Denver, 777 Grant Street, Denver, CO 80203-3501 | 22,000,000.00 | South Lincoln.
5 Housing Authority of the City of Paterson, 60 Van Houten Street, Paterson, NJ 07505-1028 | 18,400,000.00 | Alexander Hamilton.
6 St. Louis Housing Authority, 3520 Page Boulevard, St. Louis, MO 63106-1417 | 7,829,750.00 | Arthur A. Blumeyer.
7 City of Phoenix Housing Department, 251 W. Washington, 4th Floor, Phoenix, AZ 85003-1611 | 20,000,000.00 | Frank Luke Addition.
8 Home Forward (Housing Authority of Portland), 135 SW Ash Street Portland, OR 97204-3540 | 18,500,000.00 | Hillsdale Terrace.

[FR Doc. 2012-6673 Filed 3-19-12; 8:45 am]

BILLING CODE P